DEPARTMENT OF LABOR

Employment and Training Administration

Notice of Availability of Funds and Funding Opportunity Announcement for Grant Applications for the Workforce Data Quality Initiative—Round V

AGENCY: Employment and Training Administration, Labor.

ACTION: Funding Opportunity Announcement (FOA).

Funding Opportunity Number: FOA-ETA-15-06.

SUMMARY: The Employment and Training Administration (ETA) announces the availability of approximately $10 million to award approximately eight grants of up to $1.2 million to State Workforce Agencies (SWA) for the Workforce Data Quality Initiative (WDQI).

The purpose of WDQI is to support the development and expansion of State workforce longitudinal administrative databases over a three-year grant period. Collecting longitudinal workforce and education data will provide a comprehensive picture of workers' earnings throughout their careers. Through analysis, these data will demonstrate the relationship between education and training programs, as well as the additional contribution of the provision of other employment services. These grants will help support the emphasis on accountability and transparency that is a key feature of the recently enacted WIOA and will be funded through section 171(c)(2) of WIA and section 169 of WIOA. These grants will also help support the implementation of WIOA by connecting the data infrastructure across programs, enabling states to meet the performance accountability requirements under WIOA.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is May 6, 2015. Applications must be received no later than 4:00:00 p.m. Eastern Time.

FOR FURTHER INFORMATION CONTACT: Linda K. Forman, 200 Constitution Avenue NW., Room N-4716, Washington, DC 20210; Telephone: 202-693-3416.

The Grant Officer for this FOA is Steven Rietzke

Signed: April 8, 2015 in Washington, DC.
Eric D. Luetkenhaus,
Grant Officer/Division Chief, Employment and Training Administration.

[FR Doc. 2015-08502 Filed 4-13-15; 8:45 am]

BILLING CODE 4510-FN-P